DEPARTMENT OF TRANSPORTATION

Office of the Secretary

Application of Paklook Air, Inc. D/B/A Airlift Alaska for Certificate Authority

AGENCY: Department of Transportation.

ACTION: Notice of Order to Show Cause (Order 2016-12-22) Docket DOT-OST-2016-0126.

SUMMARY: The Department of Transportation is directing all interested persons to show cause why it should not issue an order finding Paklook Air, Inc. d/b/a Airlift Alaska fit, willing, and able, and awarding it a certificate of public convenience and necessity to engage in interstate scheduled air transportation of persons, property, and mail.

DATES: Persons wishing to file objections should do so no later than January 12, 2017.

ADDRESSES: Objections and answers to objections should be filed in Docket DOT-OST-2016-0126 and addressed to the Department of Transportation, Docket Operations, 1200 New Jersey Avenue SE., West Building Ground Floor, Room W12-140, Washington, DC, and should be served upon the parties listed in Attachment A to the order.

FOR FURTHER INFORMATION CONTACT: Damon D. Walker, Air Carrier Fitness Division, (X-56, Office W86-469), U.S. Department of Transportation, 1200 New Jersey Avenue SE., Washington, DC 20590, (202) 366-9721.

Dated: December 28, 2016.
Jenny T. Rosenberg,
Acting Assistant Secretary for Aviation and International Affairs.

[FR Doc. 2016-31982 Filed 1-4-17; 8:45 am]

BILLING CODE 4910-9X-P